DEPARTMENT OF HEALTH AND HUMAN SERVICES

Centers for Disease Control and Prevention

[60Day-23-1380; Docket No. CDC-2023-0006]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled Requirements for Negative Pre-Departure COVID-19 Test Result or Documentation of Recovery from COVID-19 for all Airline or Other Aircraft Passengers Traveling to the United States from the People's Republic of China (PRC). This data collection is created to protect the U.S. population from potential importation, transmission, and spread of new COVID-19 variants into the United States from the PRC.

DATES: CDC must receive written comments on or before March 20, 2023.

ADDRESSES: You may submit comments, identified by Docket No. CDC-2023-0006 by any of the following methods:

• Federal eRulemaking Portal: www.regulations.gov. Follow the instructions for submitting comments.

• Mail: Jeffery M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffery M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Requirements for Negative Pre-Departure COVID-19 Test Result or Documentation of Recovery from COVID-19 for all Airline or Other Aircraft Passengers Traveling to the United States from the People's Republic of China (OMB Control No. 0920-1380, Exp. 6/30/2023)—New—National Center for Emerging and Zoonotic Infectious Diseases (NCEZID), Centers for Disease Control and Prevention (CDC).

Background and Brief Description

COVID-19 is surging in the People's Republic of China (PRC) because of recent decisions to remove mitigation measures. The population in the PRC has not had extensive exposure to the virus that causes COVID-19 and, therefore, has not developed immune protection through prior infection. The recent surge in COVID-19 transmission, particularly in a large population such as the PRC, increases the potential for new variants to emerge that could be introduced to the United States.

Considering the potential danger to public health posed by emerging new variants in the PRC, CDC has determined that proactive, preventative measures must be implemented now to protect the U.S. population from potential importation, transmission, and spread of new COVID-19 variants into the United States.

Pursuant to 42 CFR 71.20 and 71.31(b) and as set forth in greater detail below, this Notice and associated CDC Order will prohibit the boarding of any passenger two years of age or older on an itinerary that includes the United States, on:

• any aircraft departing from the PRC, or

• any aircraft departing from a Designated Airport if the passenger within the ten (10) days prior to their departure for the United States has been in the PRC, unless the passenger presents paper or digital documentation of one of the following requirements or meets a limited exception:

1. A negative pre-departure viral test result for SARS-CoV-2 conducted on a specimen collected no more than two (2) calendar days before the flight's departure from the PRC (Qualifying Test)

OR

2. Documentation of having recovered from COVID-19 in the past 90 days in the form of one of the following (i.e., Documentation of Recovery):

a. A positive viral test result for SARS-CoV-2 conducted on a specimen collected more than 10 calendar days but fewer than 91 calendar days before the flight's departure; OR

b. A positive viral test result for SARS-CoV-2 conducted on a specimen collected 10 or fewer calendar days before the flight's departure AND a signed letter from a licensed healthcare provider or public health official stating that the passenger's COVID-19 symptoms began more than 10 calendar days before the flight's departure.

CDC may grant a humanitarian exception in very limited circumstances only when an individual must travel to the United States to preserve health (e.g., emergency medical evacuations, life-saving medical treatment) or safety (e.g., violence) and pre-departure testing cannot be accessed or completed before travel because of exigent circumstances. Air passengers will also be required to provide an attestation, attesting that the information they present is true.

CDC requests OMB approval for an estimated 5,208,373 annual burden hours. There is no cost to respondents other than their time to participate.

Estimated Annualized Burden Hours
Type of respondent | Form name | Number of respondents | Number of responses per respondent | Average burden per response (in hours) | Total burden (in hours)
Air Passenger | Attestation—Proof of Negative COVID-19 Test Result or Documentation of Recovery for Air Passengers from the People's Republic of China | 2,500,000 | 1 | 2 | 5,000,000
Airline Desk Agent | Attestation—Proof of Negative COVID-19 Test Result or Documentation of Recovery for Air Passengers from the People's Republic of China | 2,500,000 | 1 | 8/60 | 208,333
Air Passenger | Request Humanitarian Exception—(No form) | 20 | 1 | 2 | 40
Total |  |  |  |  | 5,208,373

Jeffrey M. Zirger,
Lead, Information Collection Review Office, Office of Scientific Integrity, Office of Science, Centers for Disease Control and Prevention.

[FR Doc. 2023-00810 Filed 1-17-23; 8:45 am]

BILLING CODE 4163-18-P